DEPARTMENT OF TRANSPORTATION

Federal Motor Carrier Safety Administration

[Docket No. FMCSA-2016-0207]

Qualification of Drivers; Exemption Applications; Vision

AGENCY: Federal Motor Carrier Safety Administration (FMCSA), DOT.

ACTION: Notice of applications for exemptions; request for comments.

SUMMARY: FMCSA announces receipt of applications from 18 individuals for exemption from the vision requirement in the Federal Motor Carrier Safety Regulations. They are unable to meet the vision requirement in one eye for various reasons. The exemptions will enable these individuals to operate commercial motor vehicles (CMVs) in interstate commerce without meeting the prescribed vision requirement in one eye. If granted, the exemptions would enable these individuals to qualify as drivers of commercial motor vehicles (CMVs) in interstate commerce.

DATES: Comments must be received on or before November 10, 2016. All comments will be investigated by FMCSA. The exemptions will be issued the day after the comment period closes.

ADDRESSES: You may submit comments bearing the Federal Docket Management System (FDMS) Docket No. FMCSA-2016-0207 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: Ms. Christine A. Hydock, Chief, Medical Programs Division, (202) 366-4001, fmcsamedical@dot.gov, FMCSA, Department of Transportation, 1200 New Jersey Avenue SE., Room W64-113, Washington, DC 20590-0001. Office hours are 8:30 a.m. to 5 p.m., e.t., Monday through Friday, except Federal holidays. If you have questions regarding viewing or submitting material to the docket, contact Docket Services, telephone (202) 366-9826.

SUPPLEMENTARY INFORMATION:

I. Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 18 individuals listed in this notice have each requested such an exemption from the vision requirement in 49 CFR 391.41(b)(10), which applies to drivers of CMVs in interstate commerce. Accordingly, the Agency will evaluate the qualifications of each applicant to determine whether granting an exemption will achieve the required level of safety mandated by statute.

II. Qualifications of Applicants

Joshua A. Akshar

Mr. Akshar, 22, has had amblyopia in his left eye since birth. The visual acuity in his right eye is 20/20, and in his left eye, 20/200. Following an examination in 2016, his optometrist stated, “In my medical opinion, Joshua Akshar has sufficient visual acuity and field of vision to perform the driving tasks to operate a commercial vehicle.” Mr. Akshar reported that he has driven straight trucks for 3 years, accumulating 10,200 miles. He holds a Class B CDL from New York. His driving record for the last 3 years shows no crashes and no convictions for moving violations in a CMV.

Elijah A. Allen, Jr.

Mr. Allen, 52, has had amblyopia in his left eye since childhood. The visual acuity in his right eye is 20/20, and in his left eye, 20/200. Following an examination in 2016, his optometrist stated, “It is my medical opinion that he has sufficient vision to perform the driving tasks required to operate a commercial vehicle.” Mr. Allen reported that he has driven straight trucks for 8 years, accumulating 320,000 miles, tractor-trailer combinations for 25 years, accumulating 2 million miles, and buses for 1 year, accumulating 2,600 miles. He holds a Class A CDL from Arkansas. His driving record for the last 3 years shows no crashes and one conviction for a moving violation in a CMV; he exceeded the speed limit by 10 miles per hour (mph).

Tanner H. Brooks

Mr. Brooks, 21, has had amblyopia in his right eye since birth. The visual acuity in his right eye is 20/100, and in his left eye, 20/20. Following an examination in 2016, his optometrist stated, “It is my opinion that his vision will enable him to safely operate a commercial vehicle.” Mr. Brooks reported that he has driven tractor-trailer combinations for 3 years, accumulating 24,000 miles. He holds an operator's license from Mississippi. His driving record for the last 3 years shows no crashes and no convictions for moving violations in a CMV.

Brian E. Broux

Mr. Broux, 49, has had amblyopia in his left eye since childhood. The visual acuity in his right eye is 20/25, and in his left eye, 20/50. Following an examination in 2016, his optometrist stated, “In my opinion, Mr. Broux's vision is sufficient to operate a commercial motor vehicle.” Mr. Broux reported that he has driven straight trucks for 11 years, accumulating 143,000 miles. He holds a Class BM1 CDL from California. His driving record for the last 3 years shows no crashes and no convictions for moving violations in a CMV.

Alvin J. Dannenmann

Mr. Dannenmann, 50, has had amblyopia in his left eye since childhood. The visual acuity in his right eye is 20/25, and in his left eye, 20/60. Following an examination in 2016, his optometrist stated, “In my professional opinion Mr [sic] Dannenmann has sufficient to [sic] vision to perform the driving tasks required to operate a commercial vehicle.” Mr. Dannenmann reported that he has driven straight trucks for 30 years, accumulating 2.34 million miles, and tractor-trailer combinations for 30 years, accumulating 450,000 miles. He holds an operator's license from Delaware. His driving record for the last 3 years shows no crashes and no convictions for moving violations in a CMV.

Wayne L. Dorbert

Mr. Dorbert, 58, has had exotropia in his right eye due to amblyopia since childhood. The visual acuity in his right eye is 20/40, and in his left eye, 20/20. Following an examination in 2016, his optometrist stated, “Visual ability and acuity are stable and sufficient to operate a commercial vehicle.” Mr. Dorbert reported that he has driven buses for 6 years, accumulating 61,500 miles. He holds a Class B CDL from Pennsylvania. His driving record for the last 3 years shows no crashes and no convictions for moving violations in a CMV.

Roger D. Ellsworth Jr.

Mr. Ellsworth, 44, has hypoexotropia in his left eye since birth. The visual acuity in his right eye is 20/20, and in his left eye, 20/40. Following an examination in 2016, his optometrist stated, “In my opinion, Mr. Ellsworth has sufficient vision to perform the driving tasks required to operate a commercial vehicle, with his optical correction.” Mr. Ellsworth reported that he has driven straight trucks for 14 years, accumulating 364,000 miles. He holds an operator's license from North Carolina. His driving record for the last 3 years shows no crashes and no convictions for moving violations in a CMV.

Gregory L. Frisch

Mr. Frisch, 48, has had complete loss of vision in his left eye since childhood. The visual acuity in his right eye is 20/20, and in his left eye, no light perception. Following an examination in 2016, his optometrist stated, “I believe he has sufficient vision to perform the driving tasks that require operating a commercial or passenger vehicle.” Mr. Frisch reported that he has driven straight trucks for 15 years, accumulating 90,000 miles, tractor-trailer combinations for 15 years, accumulating 60,000 miles, and buses for 10 years, accumulating 50,000 miles. He holds a Class A CDL from California. His driving record for the last 3 years shows no crashes and no convictions for moving violations in a CMV.

Josh Gallant Jr.

Mr. Gallant, 68, has had a retinal detachment in his right eye since 1992. The visual acuity in his right eye is 20/200, and in his left eye, 20/20. Following an examination in 2016, his optometrist stated, “It is my opinion that his vision and ocular health should not [sic] prevent him from being able to operate a commercial vehicle.” Mr. Gallant reported that he has driven straight trucks for 22 years, accumulating 2.34 million miles. He holds a Class B CDL from South Carolina. His driving record for the last 3 years shows no crashes and no convictions for moving violations in a CMV.

John P. Grum

Mr. Grum, 45, has amblyopia in his right eye since childhood. The visual acuity in his right eye is 20/100, and in his left eye, 20/20. Following an examination in 2016, his optometrist stated, “In my medical opinion I feel John has more than sufficient vision to continue to operate a commercial vehicle.” Mr. Grum reported that he has driven straight trucks for 20 years, accumulating 600,000 miles, and tractor-trailer combinations for 20 years, accumulating 1 million miles. He holds a Class AM CDL from Pennsylvania. His driving record for the last 3 years shows no crashes and no convictions for moving violations in a CMV.

Dillon L. Hendren

Mr. Hendren, 28, has had amblyopia in his left eye since birth. The visual acuity in his right eye is 20/20, and in his left eye, 20/200. Following an examination in 2016, his optometrist stated, “Since Mr. Hendren's visual fields are much greater than the required field in each eye, he should be considered visually competent to operate a commercial vehicle.” Mr. Hendren reported that he has driven straight trucks for 9 years, accumulating 142,659 miles. He holds an operator's license from South Carolina. His driving record for the last 3 years shows one crash; he was cited for spillage of load/improper load secure.

Roger E. Kadolph

Mr. Kadolph, 63, has a macular scar in his left eye since 1952. The visual acuity in his right eye is 20/20, and in his left eye, 20/200. Following an examination in 2016, his ophthalmologist stated, “In short, the history and examination was consistent with a history of very early cataract formation along with a macular scar rendering decreased central visual acuity with no changes in the peripheral vision in both eyes . . . In regards to his exam, again everything has been unchanged and he should be strongly considered for a waiver for this CDL as nothing has been altered here in the last many years.” Mr. Kadolph reported that he has driven straight trucks for 45 years, accumulating 45,000 miles, tractor-trailer combinations for 24 years, accumulating 120,000 miles. He holds a Class A CDL from Iowa. His driving record for the last 3 years shows no crashes and no convictions for moving violations in a CMV.

Jay D. May

Mr. May, 36, has had amblyopia in his left eye since childhood. The visual acuity in his right eye is 20/20, and in his left eye, 20/200. Following an examination in 2016, his optometrist stated, “Jay's vision is sufficient to drive a commercial vehicle.” Mr. May reported that he has driven straight trucks for 11 years, accumulating 5,500 miles, tractor-trailer combinations for 11 years, accumulating 495,000 miles. He holds a Class A CDL from Colorado. His driving record for the last 3 years shows no crashes and no convictions for moving violations in a CMV.

Tracy L. Neal

Mr. Neal, 49, has had optic atrophy in his right eye due to a traumatic incident in childhood. The visual acuity in his right eye is 20/100, and in his left eye, 20/20. Following an examination in 2016, his optometrist stated, “It is my medical opinion that Mr. Neal has sufficient vision to perform safe driving tasks required to operate a commercial vehicle.” Mr. Neal reported that he has driven tractor-trailer combinations for 26 years, accumulating 2.6 million miles. He holds an operator's license from Michigan. His driving record for the last 3 years shows no crashes and no convictions for moving violations in a CMV.

Edward P. Paloskey Jr.

Mr. Paloskey, 56, has retinal scar in his left eye due to an electromagnetic foreign body in 1984. The visual acuity in his right eye is 20/20, and in his left eye, 20/80. Following an examination in 2016, his optometrist stated, “In my medical opinion, Edward P. Paloskey Jr [sic] has sufficient vision to perform the driving tasks required to operate a commercial vehicle.” Mr. Paloskey reported that he has driven straight trucks for 30 years, accumulating 4.2 million miles. He holds a Class AM CDL from Pennsylvania. His driving record for the last 3 years shows no crashes and no convictions for moving violations in a CMV.

Jesse R. Parker

Mr. Parker, 44, has had amblyopia in his right eye since childhood. The visual acuity in his right eye is 20/50, and in his left eye, 20/20. Following an examination in 2016, his optometrist stated, “In my medical opinion, Mr. Parker has sufficient vision to perform the driving tasks assigned to him to operate a commercial vehicle.” Mr. Parker reported that he has driven tractor-trailer combinations for 16 years, accumulating 80,000 miles. He holds an operator's license from Louisiana. His driving record for the last 3 years shows no crashes and no convictions for moving violations in a CMV.

Christopher A. Stewart

Mr. Stewart, 57, has had amblyopia in his right eye since childhood. The visual acuity in his right eye is 20/60, and in his left eye, 20/20. Following an examination in 2016, his optometrist stated that Mr. Stewart does have sufficient vision to perform the driving tasks required to operate a commercial motor vehicle. Mr. Stewart reported that he has driven tractor-trailer combinations for 32 years, accumulating 3.58 million miles. He holds a Class A CDL from Georgia. His driving record for the last 3 years shows no crashes and no convictions for moving violations in a CMV.

Emejildo Vargas

Mr. Vargas, 28, has had amblyopia in his left eye since childhood. The visual acuity in his right eye is 20/15, and in his left eye, 20/200. Following an examination in 2016, his optometrist stated, “Mr. Vargas does meet the visual standards to drive legally and there is sufficient vision to perform the driving tasks required to operate a commercial vehicle.” Mr. Vargas reported that he has driven straight trucks for 4 years, accumulating 74,080 miles, and tractor-trailer combinations for 2 years, accumulating 14,580 miles. He holds a Class A CDL from Massachusetts. His driving record for the last 3 years shows no crashes and no convictions for moving violations in a CMV.

III. Public Participation and Request for Comments

FMCSA encourages you to participate by submitting comments and related materials.

Submitting Comments

If you submit a comment, please include the docket number for this notice, indicate the specific section of this document to which each comment applies, and provide a reason for each suggestion or recommendation. You may submit your comments and material online or by fax, mail, or hand delivery, but please use only one of these means. FMCSA recommends that you include your name and a mailing address, an email address, or a phone number in the body of your document so the Agency can contact you if it has questions regarding your submission.

To submit your comment online, go to http://www.regulations.gov and put the docket number FMCSA-2016-0207 in the “Keyword” box, and click “Search. When the new screen appears, click on “Comment Now!” button and type your comment into the text box in the following screen. Choose whether you are submitting your comment as an individual or on behalf of a third party and then submit. If you submit your comments by mail or hand delivery, submit them in an unbound format, no larger than 8½ by 11 inches, suitable for copying and electronic filing. If you submit comments by mail and would like to know that they reached the facility, please enclose a stamped, self-addressed postcard or envelope.

FMCSA will consider all comments and material received during the comment period. FMCSA may issue a final determination at any time after the close of the comment period.

Viewing Comments and Documents

To view comments, as well as documents mentioned in this preamble as being available in the docket, go to http://www.regulations.gov and insert the docket number FMCSA-2016-0207 in the “Keyword” box and click “Search.” Next, click “Open Docket Folder” button and choose the document listed to review. If you do not have access to the Internet, you may view the docket online by visiting the Docket Management Facility in Room W12-140 on the ground floor of the DOT West Building, 1200 New Jersey Avenue SE., Washington, DC 20590, between 9 a.m. and 5 p.m., e.t., Monday through Friday, except Federal holidays.

Issued on: September 29, 2016.
Larry W. Minor,
Associate Administrator for Policy.

[FR Doc. 2016-24465 Filed 10-7-16; 8:45 am]

BILLING CODE 4910-EX-P